DEPARTMENT OF TRANSPORTATION

Federal Aviation Administration

14 CFR Parts 23, 25, 33, and 35

[Docket No. FAA-2007-27310; Notice No. 07-04]

RIN 2120-AI95

Airworthiness Standards; Propellers; Reopening of Comment Period

AGENCY: Federal Aviation Administration (FAA), DOT.

ACTION: Notice of proposed rulemaking (NPRM); reopening of comment period.

SUMMARY: On April 11, 2007, the FAA published a Notice of Proposed Rulemaking (NPRM) regarding the revision of airworthiness standards for the issuance of original and amended type certificates for airplane propellers. The comment period closed on June 11, 2007. However, the FAA is reopening the comment period for an additional 45 days in response to requests from McCauley Propeller Systems, Hartzell Propeller, Inc., and the General Aviation Manufacturers Association. The reopening of the comment period is needed to permit these companies, and other affected parties, additional time to develop comments responsive to the NPRM.

DATES: The comment period for the NPRM published on April 11, 2007 (72 FR 18136) closed June 11, 2007, and is reopened until August 6, 2007.

ADDRESSES: You may send comments identified by Docket Number FAA-2007-27310 using any of the following methods:

• DOT Docket Web site: Go to http://dms.dot.gov and follow the instructions for sending your comments electronically.

• Government-wide rulemaking Web site: Go to http://www.regulations.gov and follow the instructions for sending your comments electronically.

• Mail: Send comments to the Docket Management Facility; U.S. Department of Transportation, 1200 New Jersey Avenue, SE., West Building Ground Floor, Room W12-140, Washington, DC 20590.

• Fax: Fax comments to the Docket Management Facility at 202-493-2251.

• Hand Delivery: Bring comments to the Docket Management Facility in Room W12-140 of the West Building Ground Floor at 1200 New Jersey Avenue, SE., Washington, DC, between 9 a.m. and 5 p.m., Monday through Friday, except Federal holidays.

For more information on the rulemaking process, see the SUPPLEMENTARY INFORMATION section of this document.

Privacy: We will post all comments we receive, without change, to http://dms.dot.gov, including any personal information you provide. Using the search function of our docket Web site, anyone can find and read the comments received into any of our dockets, including the name of the individual sending the comment (or signing the comment for an association, business, labor union, etc.). You may review DOT's complete Privacy Act Statement in the Federal Register published on April 11, 2000 (65 FR 19477-78).

Docket: To read background documents or comments received, go to http://dms.dot.gov at any time or to the Docket Management Facility in Room W12-140 of the West Building Ground Floor at 1200 New Jersey Avenue, SE., Washington, DC, between 9 a.m. and 5 p.m., Monday through Friday, except Federal holidays.

FOR FURTHER INFORMATION CONTACT: Jay Turnberg, Engine and Propeller Directorate Standards Staff, ANE-110, Federal Aviation Administration, 12 New England Executive Park, Burlington, Massachusetts 01803-5299; telephone (781) 238-7116; facsimile (781) 238-7199, e-mail: jay.turnberg@faa.gov.

SUPPLEMENTARY INFORMATION:

Comments Invited

The FAA invites interested persons to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, please send only one copy of written comments, or if you are filing comments electronically, please submit your comments only one time.

We will file in the docket all comments we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Proprietary or Confidential Business Information

Do not file in the docket information that you consider to be proprietary or confidential business information. Send or deliver this information directly to the person identified in the FOR FURTHER INFORMATION CONTACT section of this document. You must mark the information that you consider proprietary or confidential. If you send the information on a disk or CD-ROM, mark the outside of the disk or CD-ROM and also identify electronically within the disk or CD-ROM the specific information that is proprietary or confidential.

Under 14 CFR 11.35(b), when we are aware of proprietary information filed with a comment, we do not place it in the docket. We hold it in a separate file to which the public does not have access, and place a note in the docket that we have received it. If we receive a request to examine or copy this information, we treat it as any other request under the Freedom of Information Act (5 U.S.C. 552). We process such a request under the DOT procedures found in 49 CFR part 7.

Availability of Rulemaking Documents

You can get an electronic copy using the Internet by:

(1) Searching the Department of Transportation's electronic Docket Management System (DMS) web page (http://dms.dot.gov/search);

(2) Visiting the Office of Rulemaking's web page at http://www.faa.gov/avr/arm/index.cfm; or

(3) Accessing the Government Printing Office's web page at http://www.gpoaccess.gov/fr/index.html.

You can also get a copy by sending a request to the Federal Aviation Administration, Office of Rulemaking, ARM-1, 800 Independence Avenue, SW., Washington, DC 20591, or by calling (202) 267-9680. Make sure to identify the docket number, notice number, or amendment number of this rulemaking.

Background

On April 11, 2007, the FAA published in the Federal Register (72 FR 18136) Notice No. 07-05, Airworthiness Standards; Propellers. This proposed rule would revise the airworthiness standards for the issuance of original and amended type certificates for airplane propellers. The proposed standards would address the current advances in technology and harmonize FAA and European Aviation Safety Agency propeller certification requirements, thereby simplifying airworthiness approvals for imports and exports. The comment period closed on June 11, 2007.

By requests dated May 3, May 31, and June 6, Hartzell Propeller, Inc. (Hartzell), McCauley Propeller Systems (McCauley), and the General Aviation Manufacturers Association (GAMA), respectively, asked that the comment period be extended by 60 days to permit a more careful review and consideration of the proposed rule.

The FAA has determined that reopening the comment period for 45 days will allow Hartzell, McCauley, GAMA, and others sufficient time for a more thorough review of applicable issues and questions raised by the NPRM, and for the drafting of responsive comments.

In order, therefore, to give all interested persons additional time to complete their comments, the FAA finds that it is in the public interest to reopen the comment period for forty-five (45) days.

Issued in Washington, DC, on June 14, 2007.
Dorenda D. Baker,
Deputy Director, Aircraft Certification Service.

[FR Doc. 07-3050 Filed 6-15-07; 4:02 pm]

BILLING CODE 4910-13-P